DEPARTMENT OF COMMERCE

National Oceanic and Atmospheric Administration

DEPARTMENT OF THE INTERIOR

U.S. Fish and Wildlife Service

[I.D. 041604C]

Marine Mammals and Endangered Species; National Marine Fisheries Service File No. 31-1741; U.S. Fish and Wildlife Service File No. MA081663-0

Correction

In notice document 04-9453 appearing on page 22770 in the issue of Tuesday, April 27, 2004, make the following correction:

On page 22770, in the third column, in the next to last line, the document number “04-9453” should read “04-9543”.

[FR Doc. C4-9543 Filed 5-5-04; 8:45 am]

BILLING CODE 1505-01-D

DEPARTMENT OF TRANSPORTATION

Federal Aviation Administration

14 CFR Part 71

[Docket No. FAA-2004-17420; Airspace Docket No. 04-ACE-21]

Modification of Class E Airspace; Moberly, MO

Correction

In rule document 04-9916 beginning on page 24064 in the issue of Monday, May 3, 2004, make the following correction:

§71.1 [Corrected]

On page 24065, in the third column, in §71.1, under the heading ACE MO E5 Moberly, MO, in the fourth line, “6.5-mile” should read, “6.4-mile”.

[FR Doc. C4-9916 Filed 5-5-04; 8:45 am]

BILLING CODE 1505-01-D